DEPARTMENT OF STATE

[Public Notice: 12776]

Amendment of the Specially Designated Global Terrorist Designation of Lashkar-e-Tayyiba

Based upon a review of the administrative record assembled in this matter, and in consultation with the Attorney General and the Secretary of the Treasury, I have concluded that there is a sufficient factual basis to find that Lashkar-e-Tayyiba uses the additional aliases The Resistance Front; TRF; Kashmir Resistance Front; and Kashmir Resistance. Therefore, pursuant to Section 1 of E.O. 13224, I hereby amend the designation of Lashkar-e-Tayyiba as a Specially Designated Global Terrorist to include the following new aliases: The Resistance Front; TRF; Kashmir Resistance Front; and Kashmir Resistance.

This determination shall be published in the Federal Register.

Dated: 07/02/2025.
Marco Rubio,
Secretary of State.

[FR Doc. 2025-13562 Filed 7-17-25; 8:45 am]

BILLING CODE 4710-AD-P